DEPARTMENT OF LABOR

Proposed Information Collection Request (ICR) for the Family Medical Leave Act (FMLA) Employee and Employer Surveys; Comment Request

AGENCY: Wage and Hour Division, Labor.

ACTION: Notice.

SUMMARY: The Department of Labor (Department or DOL), as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that required data can be provided in the desired format, reporting burden (time and financial resources) is minimized, collection instruments are clearly understood, and the impact of collection requirements on respondents can be properly assessed. The Department is soliciting comments concerning its proposal to collect information on employees' and employers' experience with family and medical leave under the Family Medical Leave Act. A copy of the proposed ICR can be obtained by contacting the office listed below in the addressee section of this notice.

DATES: Written comments must be received by the office listed in the addressee section below on or before May 31, 2011.

ADDRESSES: You may submit comments identified by [RIN or some other identifier] by either one of the following methods: E-mail WHDPRAComments@dol.gov; Mail, Hand Delivery, Courier: Division of Regulations, Legislation, and Interpretation, Wage and Hour, U.S. Department of Labor, Room S-3502, 200 Constitution Avenue, NW., Washington, DC 20210.

Instructions: Please submit one copy of your comments by only one method. All submissions received must include the agency name and [RIN or some other identifier] identified above for this information collection. Because we continue to experience delays in receiving mail in the Washington, DC area, commenters are strongly encouraged to transmit their comments electronically via e-mail or to submit them by mail early. Comments, including any personal information provided, become a matter of public record. They will be summarized and/or included in the request for OMB approval of the information collection request.

FOR FURTHER INFORMATION CONTACT: Mary Ziegler, Director, Division of Regulations, Legislation, and Interpretation, Wage and Hour, U.S. Department of Labor, Room S-3502, 200 Constitution Avenue, NW., Washington, DC 20210; telephone (202) 693-0406 (this is not a toll free number). Copies of this notice may be obtained in alternative formats (Large print, Braille, Audio Tape, or Disc), upon request by calling (202) 693-0023 (this is not a toll-free number). TTY/TTD callers may dial toll-free (877) 889-5627 to obtain information or to request materials in alternative formats.

SUPPLEMENTARY INFORMATION:

I. Background: Given changes in economic conditions and the Family and Medical Leave Act (FMLA) regulations since the 2000 employee and employer surveys, the Wage and Hour Division (WHD) of the U.S. Department of Labor needs to collect new information on the use and need of FMLA leave in order to update DOL's understanding of leave-taking behavior and to close current data gaps remaining from the previous surveys. To better understand both employees' and employers' experience with FMLA, two new surveys will be conducted to collect information about the need for and the experience with family and medical leave from employees' and employers' perspectives. This study will help the Department by providing information on current workplace policies and practices related to family and medical leave. An in-depth analysis of private sector FMLA policies allows WHD to determine how those policies affect the work-life balance of workers and the productivity and work flow of employers. The study enables DOL to shape future regulatory options, craft interpretive guidance (such as plain-language fact sheets), develop compliance programs (employer outreach and investigation policies), and establish regulatory priorities based on sound, current data rather than on outdated data or anecdotal information. Finally, the study provides a data set by which DOL can evaluate the effect on employer compliance of a range of FMLA activities—regulatory, educational, investigative, and legal—on employer compliance.

Two previous FMLA surveys have been conducted. The first FMLA study, in which workers and employers were surveyed to learn about family and medical leave policies and their effect on workers and their employers, was conducted in 1995 by the bipartisan Commission on Family and Medical Leave. The final report on this survey, titled “A Workable Balance: Report to Congress on Family and Medical Leave Policies,” is available online at http://www.dol.gov/whd/fmla/1995Report/family.htm. The second study was conducted in 2000 by Westat at the request of the Department. The Westat study updated the 1995 data by administering employee and employer surveys similar to the 1995 surveys. The second study entitled “Balancing the Needs of Families and Employers: Family and Medical Leave Surveys, 2000 Update” is available on the Department's website at http://www.dol.gov/whd/fmla/toc.htm. An additional source of information came from the Department's Request for Information (RFI) issued on December 1, 2006. The RFI asked the public to comment on their experiences with, and observations of, the Department's administration of the law and the effectiveness of the regulations. The qualitative data obtained provided a detailed anecdotal picture of the workings of the FMLA.

The period for conducting this study is expected to last no later than January 14, 2012.

II. Desired Focus of Comments: Currently, the Department of Labor is soliciting comments concerning the above data collection for the FMLA Employee and Employer Surveys. Comments are requested which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the information collection on those who are to respond, including the use of appropriate automated, electronic, mechanical, or other technological collection techniques or other forms of information technology, e.g., permitting electronic submissions of responses.

III. Current Actions: At this time, the Department is requesting clearance for an employer and employee survey focusing on the Family Medical Leave Act of 1993.

Type of review: New information collection request.

OMB Number: None.

Affected Public: Private sector, public sector, individuals, and households.

For the FMLA Employee survey:

Frequency: Once.

Total Responses: 3,000 respondents.

Average Time per Response: 26 minutes.

Estimated Total Burden Hours: 1,292 hours.

Total Burden Cost: $0.

For the FMLA Employer Survey:

Frequency: Once.

Total Responses: 1800 firms.

Average Time per Response: 36 minutes.

Estimated Total Burden Hours: 2164 hours.

Total Burden Cost: $0.

Note that, due to rounding, the numbers for the totals may differ from the sum of the component numbers.

Comments submitted in response to this request will be summarized and/or included in the request for Office of Management and Budget approval; they will also become a matter of public record.

Signed at Washington, DC, this 23rd day of March 2011.
Mary Ziegler,
Director, Division of Regulations, Legislation, and Interpretation.

[FR Doc. 2011-7345 Filed 3-28-11; 8:45 am]

BILLING CODE 4510-27-P